DEPARTMENT OF HEALTH AND HUMAN SERVICES

Health Resources and Services Administration

Request for Nominations: Advisory Committee on Training in Primary Care Medicine and Dentistry

AGENCY: Health Resources and Services Administration (HRSA), HHS.

ACTION: Notice.

SUMMARY: The Health Resources and Services Administration (HRSA) is requesting nominations to fill eight vacancies on the Advisory Committee on Training in Primary Care Medicine and Dentistry (ACTPCMD).

DATES: Nominations for ACTPCMD must be submitted by May 30, 2014.

ADDRESSES: All nominations should be submitted by email to Shane Rogers, Designated Federal Official, at srogers@hrsa.gov, or mailed to: Shane Rogers, ACTPCMD, Bureau of Health Professions, HRSA, 5600 Fishers Lane, Room 9A-27, Rockville, Maryland 20857, no later than May 30, 2014.

FOR FURTHER INFORMATION CONTACT: Shane Rogers, Designated Federal Official, ACTPCMD, Bureau of Health Professions, HRSA, 5600 Fishers Lane, Room 9A-27, Rockville, Maryland 20857, srogers@hrsa.gov, 301-443-5260.

SUPPLEMENTARY INFORMATION: A copy of the current committee membership, charter, reports and other publications can be obtained by accessing the ACTPCMD Web site at: http://www.hrsa.gov/advisorycommittees/bhpradvisory/actpcmd/index.html.

The ACTPCMD, authorized by section 749 (42 U.S.C. 293l) of the Public Health Service (PHS) Act, as amended by section 5103(d) and re-designated by section 5303 of the Affordable Care Act, provides advice and recommendations on policy and program development to the Secretary, and is responsible for submitting an annual report to the Secretary and Congress concerning the activities under Sections 747 and 748 of the Public Health Service Act (PHS Act), as amended. In addition, the ACTPCMD is responsible for developing, publishing, and implementing performance measures and longitudinal evaluations, as well as recommending appropriation levels for programs under Part C of Title VII of the PHS Act, as amended.

The ACTPCMD consists of 17 members appointed by the Secretary. The Secretary appoints members from practicing health professionals engaged in training; leaders from health professions organizations; faculty from health professions educational institutions; and health professionals from public or private teaching hospitals and/or community-based settings.

HRSA is seeking nominees that can represent the following health professions disciplines: Family Medicine (allopathic and osteopathic), General Internal Medicine, General Pediatrics, General and Pediatric Dentistry, Dental Hygiene, Physician Assistants, and Advanced Practice Nursing.

Interested persons and organizations may nominate one or more qualified persons for membership. Self-nominations are accepted. Please furnish each nominee's curriculum vitae (CV) and a completed ACTPCMD Applicant Information Form, which can be found at: http://www.hrsa.gov/advisorycommittees/bhpradvisory/actpcmd/index.html, or obtained by contacting Mr. Shane Rogers at srogers@hrsa.gov or 301-443-5260. Personal letters of interest from the nominees and organizational letters of support are optional.

If selected, a member must submit an Office of Government Ethics (OGE) 450 Confidential Financial Disclosure Form within thirty (30) days of entrance on duty. Members will receive a stipend for each official meeting day of the committee, as well as per diem and travel expenses as authorized by section 5 U.S.C. 5703 for persons employed intermittently in government service. Appointments shall be made without discrimination on the basis of age, ethnicity, gender, sexual orientation, cultural, religious, socioeconomic, or disability status. Selected candidates will be invited to serve a term of no less than 3 years.

Dated: March 26, 2014.
Jackie Painter,
Deputy Director, Division of Policy and Information Coordination.

[FR Doc. 2014-07506 Filed 4-3-14; 8:45 am]

BILLING CODE 4165-15-P